DEPARTMENT OF AGRICULTURE

Forest Service

Daniel Boone Resource Advisory Committee

AGENCY: Forest Service, Agriculture (USDA).

ACTION: Notice of meeting.

SUMMARY: The Daniel Boone Resource Advisory Committee (RAC) will hold a virtual meeting by phone and/or video conference. The committee is authorized under the Secure Rural Schools and Community Self-Determination Act (the Act) and operates in compliance with the Federal Advisory Committee Act. The purpose of the committee is to improve collaborative relationships and to provide advice and recommendations to the Forest Service concerning projects and funding consistent with Title II of the Act as well as make recommendations on recreation fee proposals for sites on the Daniel Boone National Forest, consistent with the Federal Lands Recreation Enhancement Act (FLREA). RAC information and virtual meeting information can be found at the following website: https://www.fs.usda.gov/main/dbnf/workingtogether/advisorycommittees.

DATES: The meeting will be held on September 29, 2021 at 6:00 p.m., Eastern Daylight Time.

All RAC meetings are subject to cancellation. For status of the meeting prior to attendance, please contact the person listed under FOR FURTHER INFORMATION CONTACT.

ADDRESSES: The meeting will be held virtually via Microsoft Teams with the option to call-in via telephone at 1-202-650-0123, Phone Conference ID: 257 681 874#.

Written comments may be submitted as described under SUPPLEMENTARY INFORMATION. All comments, including names and addresses when provided, are placed in the record and are available for public inspection and copying. The public may inspect comments received upon request.

FOR FURTHER INFORMATION CONTACT: Tim Eling, Designated Federal Officer (DFO), by phone at 859-408-5258 or via email at timothy.eling@usda.gov.

Individuals who use telecommunication devices for the hearing-impaired (TDD) may call the Federal Relay Service (FRS) at 1-800-877-8339, 24 hours per day, every day of the year, including holidays.

SUPPLEMENTARY INFORMATION: The purpose of the meeting is to:

1. Approve previous meeting minutes;

2. Review FLREA fee proposals for initiating new fees or increasing fees in recreation areas on the Daniel Boone National Forest;

3. Receive public input; and

4. Recommend FLREA fee proposals for approval.

The meeting is open to the public. The agenda will include time for people to make oral statements of three minutes or less. Individuals wishing to make an oral statement should request in writing by September 17, 2021, to be scheduled on the agenda. Anyone who would like to bring related matters to the attention of the committee may file written statements with the committee staff before or after the meeting. Written comments and requests for time for oral comments must be sent to Tim Eling, Designated Federal Officer, Forest Supervisor's Office, 1700 Bypass Road, Winchester, KY 40391 or by email to timothy.eling@usda.gov.

Meeting Accommodations: If you are a person requiring reasonable accommodation, please make requests in advance for sign language interpreting, assistive listening devices, or other reasonable accommodation. For access to the facility or proceedings, please contact the person listed in the section titled FOR FURTHER INFORMATION CONTACT. All reasonable accommodation requests are managed on a case-by-case basis.

Dated: August 23, 2021.
Cikena Reid,
USDA Committee Management Officer.

[FR Doc. 2021-18471 Filed 8-26-21; 8:45 am]

BILLING CODE 3411-15-P